DEPARTMENT OF ENERGY

Federal Energy Regulatory Commission

[Docket No. GT02-27-000]

Williston Basin Interstate Pipeline Company; Notice of Tariff Filing

June 6, 2002.

Take notice that on May 29, 2002, Williston Basin Interstate Pipeline Company (Williston Basin), tendered for filing as part of its FERC Gas Tariff, Second Revised Volume No. 1, the following revised tariff sheets to become effective June 1, 2002:

Sixth Revised Sheet No. 374

Ninth Revised Sheet No. 375

Williston Basin states that it has revised the above-referenced tariff sheets found in Section 48 of the General Terms and Conditions of its Tariff to remove an inactive receipt point, Point ID No. 02982 (Cottonwood Creek), from Williston Basin's Wind River Pool and to rename receipt point, Point ID No. 03421 from (Montana Power-Warren) to (NorthWestern Energy-Warren), in Williston Basin's Big Horn Pool.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-14869 Filed 6-12-02; 8:45 am]

BILLING CODE 6717-01-P